DEPARTMENT OF HEALTH AND HUMAN SERVICES

Health Resources and Services Administration

Agency Information Collection Activities: Proposed Collection: Public Comment Request; Information Collection Request Title: Rapid Uptake of Disseminated Interventions (RUDI) Evaluation OMB No. 0915-xxxx—[New]

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than September 11, 2023.

ADDRESSES: Submit your comments to paperwork@hrsa.gov or mail the HRSA Information Collection Clearance Officer, Room 14N39, 5600 Fishers Lane, Rockville, Maryland 20857.

FOR FURTHER INFORMATION CONTACT: To request more information on the proposed project or to obtain a copy of the data collection plans and draft instruments, email paperwork@hrsa.gov or call Samantha Miller, the HRSA Information Collection Clearance Officer, at (301) 443-3983.

SUPPLEMENTARY INFORMATION: When submitting comments or requesting information, please include the ICR title for reference.

Information Collection Request Title: Rapid Uptake of Disseminated Interventions (RUDI) Evaluation OMB No. 0915-xxxx—[New].

Abstract: HRSA has dedicated significant resources and effort to developing novel intervention strategies aimed at eliminating disparities and improving HIV-related health outcomes for people with HIV. HRSA encourages and supports Ryan White HIV/AIDS Program (RWHAP) providers to implement interventions developed through its Special Projects of National Significance (RWHAP Part F SPNS) program and technical assistance initiatives that have been found to be effective, with adaptations for priority populations served as applicable. HRSA disseminates its RWHAP Part F SPNS and technical assistance initiative resources and products across a variety of dissemination channels, hoping to reach a maximum number of RWHAP recipients and subrecipients for whom these resources may meet an important need. This mixed-methods Rapid Uptake of Disseminated Interventions (RUDI) evaluation will use a web-based survey and virtual site visits to collect information from RWHAP recipients and subrecipients on the uptake, utility, and efficacy of the resources and products HRSA disseminates; the effectiveness of its dissemination processes; and the reach of its dissemination channels. HRSA will use the information to identify opportunities for strengthening its dissemination channels and resources to improve care and health outcomes for program participants.

Need and Proposed Use of the Information: Currently, HRSA does not systematically gather information about the resources accessed by RWHAP providers, RWHAP recipients, or AIDS Education and Training Center (AETC) staff and the extent to which they use those resources to inform implementation of interventions.

The mixed-methods RUDI evaluation will help HRSA systematically assess and understand (1) how, where, and why recipients of RWHAP funding access and use its disseminated resources and products; and (2) the utility and effectiveness of the disseminated resources and products in caring for and treating people with HIV. HRSA will use the findings from the RUDI evaluation to develop strategies to maximize the uptake and impact of its disseminated resources and products, contributing to ending the HIV epidemic in the United States.

Likely Respondents: The mixed-methods RUDI evaluation includes a web-based survey of all RWHAP recipients and subrecipients nationally, individual interviews with a sample of RWHAP recipients, virtual site visits with a sample of RWHAP providers, and individual interviews with all AETCs. The RUDI web-based survey design includes two versions of the survey that will be administered to non-overlapping respondents—the RUDI Recipients Survey for RWHAP Part A and B recipient administrative entities—and the RUDI Providers Survey for Part A and B subrecipients and Part C, D, and F recipients who provide direct care. Both versions ask about respondents' use of HRSA-disseminated resources, how they were helpful, what could be improved, and reasons for non-use where applicable. In addition, the RUDI Recipients Survey asks about the recipients' role in guiding their subrecipients to needed resources, and the RUDI Providers Survey asks about the recipients' experience implementing interventions for which they used the resources. Both surveys are designed to be followed up with additional sets of interviews with a sample of the survey respondents to provide deeper understanding of their experience to support development of actionable recommendations pertaining to dissemination. Virtual site visits to RWHAP providers include interviews with an average of three staff within each provider organization that were part of an intervention implementation with assistance from HRSA resources. Individual interviews for Part A and B recipient administrative entities and AETCs will generate a complete picture of how those organizations use HRSA resources and how the resources or their dissemination could be improved for the future, especially when considered together with the survey responses and virtual site visit data from the RWHAP providers.

Burden Statement: Burden in the context of this study means the time that persons expend to generate, maintain, retain, disclose, and provide the requested information. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
RUDI Recipient Survey | 56 | 1 | 56 | .25 | 14
RUDI Provider Survey | 1,066 | 1 | 1,066 | .25 | 266.5
Interviews | 20 | 2 | 40 | .75 | 30
Virtual site visit interviews | 40 | 3 | 120 | 1.00 | 120
Interviews AETCs | 8 | 1 | 8 | 1.00 | 8
| 1,190 |  | 1,290 |  | 438.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-14772 Filed 7-11-23; 8:45 am]

BILLING CODE 4165-15-P